DEPARTMENT OF TRANSPORTATION

Office of the Secretary

[Docket No.: DOT-OST-2016-0203]

Advisory Committee on Automation in Transportation

AGENCY: Office of the Secretary, U.S. Department of Transportation (DOT).

ACTION: Notice—Correction to Establishment of the Advisory Committee on Automation in Transportation (ACAT) and Solicitation of Nominations for Membership.

SUMMARY: This notice corrects an October 20, 2016, Federal Register notice that announced the establishment of, and solicited nominations to serve on, the DOT's Advisory Committee on Automation in Transportation. It also extends the deadline for nominations to serve on the Committee.

DATES: The deadline for nominations for Committee members must be received on or before November 16, 2016.

ADDRESSES: All nomination materials should be emailed to automation@dot.gov or faxed to the attention of John Augustine at (202) 366-0263, or mailed to John Augustine, U.S. Department of Transportation, Office of the Secretary, Office of Policy, Room W84-306, 1200 New Jersey Avenue SE., Washington, DC 20590. Any person needing accessibility accommodations should contact John Augustine at (202) 366-0353.

FOR FURTHER INFORMATION CONTACT: John Augustine, U.S. Department of Transportation, Office of the Secretary, Office of Policy, Room W84-306, 1200 New Jersey Avenue SE., Washington, DC 20590; phone (202) 366-0353; email: automation@dot.gov.

SUPPLEMENTARY INFORMATION: In a Federal Register notice published on October 20, 2016, the Department of Transportation solicited nominations for membership to the Advisory Committee on Automation in Transportation (ACAT). The ACAT shall undertake information gathering activities, develop technical advice, and present recommendations to the Secretary to further inform this policy, including—but not limited to—aviation automated navigation systems technologies, unmanned aircraft systems, automated and connected road and transit vehicle technologies, enhanced freight movement technologies, railroad automated technologies, and advanced technology deployment in surface transportation environments. In particular, the ACAT will perform these activities as they may relate to emerging or “not-yet-conceived” innovations to ensure DOT is prepared when disruptive technologies emerge and can better manage long term evolution of training and education, regulation, and safety oversight. The ACAT shall consider these topics and areas of application as they alleviate or exacerbate challenges to disabled and disadvantaged populations.

In the prior notice, the Department of Transportation stated that individuals already serving on a Federal advisory committee will be ineligible for nomination. After further consideration, the Department finds it appropriate to consider applicants already serving on a Federal advisory committee. As a result, interested parties may self-nominate or submit a nomination for a candidate who already serves on another Federal advisory committee.

Process and Deadline for Submitting Nominations: Qualified individuals can self-nominate or be nominated by any individual or organization. To be considered for the ACAT, nominators should submit the following information:

(1) Name, title, and relevant contact information (including phone, fax, and email address) of the individual requesting consideration;

(2) A letter of support from a company, union, trade association, academic or non-profit organization on letterhead containing a brief description why the nominee should be considered for membership;

(3) Short biography of nominee including professional and academic credentials;

(4) An affirmative statement that the nominee meets all Committee eligibility requirements.

Please do not send company, trade association, or organization brochures or any other information. Materials submitted should total two pages or less. Should more information be needed, DOT staff will contact the nominee, obtain information from the nominee's past affiliations, or obtain information from publicly available sources, such as the Internet.

Nominations may be emailed to automation@dot.gov or faxed to the attention of John Augustine at (202) 366-0263, or mailed to John Augustine, U.S. Department of Transportation, Office of the Secretary Office of Policy, Room W84-306, 1200 New Jersey Avenue SE., Washington DC, 20590. Nominations must be received before November 16, 2016. Nominees selected for appointment to the Committee will be notified by return email and by a letter of appointment.

Issued in Washington, DC, on October 24, 2016.
Blair C. Anderson,
Under Secretary of Transportation for Policy.

[FR Doc. 2016-26328 Filed 10-31-16; 8:45 am]

BILLING CODE 4910-9X-P